INTERNATIONAL TRADE COMMISSION

[Investigation No. 337-TA-864]

Certain Mobile Handset Devices and Related Touch Keyboard Software; Commission Determination Not To Review an Initial Determination Terminating the Investigation; Termination of the Investigation

AGENCY: U.S. International Trade Commission.

ACTION: Notice.

SUMMARY: Notice is hereby given that the U.S. International Trade Commission has determined not to review the administrative law judge's (“ALJ”) initial determination (“ID”) (Order No. 22) granting a joint motion to terminate the investigation based on settlement.

FOR FURTHER INFORMATION CONTACT: Amanda Pitcher Fisherow, Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-4737.

SUPPLEMENTARY INFORMATION: The Commission instituted this investigation on January 31, 2013, based on a complaint filed by Nuance Communications, Inc. (“Nuance”) of Burlington, Massachusetts; Swype, Inc. (“Swype”); Tegic Communications, Inc. (“Tegic”); and ZI Corporation of Canada, Inc., all of Burlington, Massachusetts, alleging violations of section 337 of the Tariff Act of 1930 (19 U.S.C. § 1337) by reason of infringement of certain claims of U.S. Patent Nos. 7,750,891; 7,453,439; 7,098,896; 7,075,520; and 6,286,064. The notice of investigation named Shanghai HanXiang (CooTek) Information Technology Co., Ltd. of Shanghai, China and Personal Communications Devices, LLC (“PCD”) of Hauppauge, New York as respondents. PCD has been terminated from the investigation.

On October 21, 2013, complainants Nuance, Swype, and Tegic and respondent CooTek filed a joint motion to terminate the investigation based on settlement. On October 22, 2013, the Office of Unfair Import Investigations filed a response supporting the motion.

On October 23, 2013, the ALJ issued an ID granting the motion. The ALJ noted that complainants represented that there were no agreements, written or oral, express or implied between the parties concerning the subject matter of the investigation. The motion also included both confidential and non-confidential versions of the settlement agreement. The ALJ further found that termination of the investigation is in the public interest. No petitions for review were filed.

The Commission has determined not to review the subject ID. The investigation is terminated.

The authority for the Commission's determination is contained in section 337 of the Tariff Act of 1930, as amended (19 U.S.C. § 1337), and in section 210.42 of the Commission's Rules of Practice and Procedure (19 CFR § 210.42).

By order of the Commission.
Issued: November 20, 2013.
Lisa R. Barton,
Acting Secretary to the Commission.

[FR Doc. 2013-28206 Filed 11-22-13; 8:45 am]

BILLING CODE 7020-02-P